DEPARTMENT OF AGRICULTURE

Animal and Plant Health Inspection Service

7 CFR Parts 301 and 319

[Docket No. APHIS-2006-0189]

RIN 0579-AC67

Movement of Hass Avocados From Areas Where Mexican Fruit Fly or Sapote Fruit Fly Exist

AGENCY: Animal and Plant Health Inspection Service, USDA.

ACTION: Proposed rule; reopening of comment period.

SUMMARY: We are reopening the comment period for our proposed rule that would amend our domestic quarantine regulations to provide for the interstate movement of Hass avocados from Mexican fruit fly and sapote fruit fly quarantined areas in the United States with a certificate if the fruit is safeguarded after harvest in accordance with specific measures. The proposed rule would also amend our foreign quarantine regulations to remove trapping and bait spray treatment requirements related to Anastrepha spp. fruit flies for imported Hass avocados from Michoacan, Mexico. This action will allow interested persons additional time to prepare and submit comments.

DATES: We will consider all comments that we receive on or before June 26, 2008.

ADDRESSES: You may submit comments by either of the following methods:

• Federal eRulemaking Portal: Go to http://www.regulations.gov/fdmspublic/component/main?main=DocketDetail&d=APHIS-2006-0189 to submit or view comments and to view supporting and related materials available electronically.

• Postal Mail/Commercial Delivery: Please send two copies of your comment to Docket No. APHIS-2006-0189, Regulatory Analysis and Development, PPD, APHIS, Station 3A-03.8, 4700 River Road, Unit 118, Riverdale, MD 20737-1238. Please state that your comment refers to Docket No. APHIS-2006-0189.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Regarding the interstate movement of Hass avocados from Mexican fruit fly and sapote fruit fly quarantined areas, contact Mr. Wayne D. Burnett, Domestic Coordinator, Fruit Fly Exclusion and Detection, PPQ, APHIS, 4700 River Road, Unit 137, Riverdale, MD 20737-1231; (301) 734-6553. Regarding import conditions for Hass avocados from Mexico, contact Mr. David B. Lamb, Import Specialist, Commodity Import Analysis and Operations, PPQ, APHIS, 4700 River Road, Unit 133, Riverdale, MD 20737-1231; (301) 734-8758.

SUPPLEMENTARY INFORMATION: On April 2, 2008, we published in the Federal Register (73 FR 17930-17935, Docket No. APHIS-2006-0189) a proposal ¹ to relieve certain restrictions regarding the movement of Hass variety avocados. Specifically, we proposed to amend our domestic quarantine regulations to provide for the interstate movement of Hass avocados from Mexican fruit fly and sapote fruit fly quarantined areas in the United States with a certificate if the fruit is safeguarded after harvest in accordance with specific measures. We also proposed to amend our foreign quarantine regulations to remove trapping and bait spray treatment requirements related to Anastrepha spp. fruit flies for imported Hass avocados from Michoacan, Mexico.

¹ To view the proposed rule, supporting documents, and any comments we have received, go to http://www.regulations.gov/fdmspublic/component/main?main=DocketDetail&d=APHIS-2006-0189.

Comments on the proposed rule were required to be received on or before June 2, 2008. We are reopening the comment period on Docket No. APHIS-2006-0189 for an additional 2 weeks. We will also consider all comments received between June 3, 2008, and the date of this notice. This action will allow interested persons additional time to prepare and submit comments.

Authority: 7 U.S.C. 450, 7701-7772, and 7781-7786; 21 U.S.C. 136 and 136a; 7 CFR 2.22, 2.80, and 371.3.

Done in Washington, DC, this 6th day of June 2008.
Kevin Shea,
Acting Administrator, Animal and Plant Health Inspection Service.

[FR Doc. E8-13226 Filed 6-11-08; 8:45 am]

BILLING CODE 3410-34-P